DEPARTMENT OF DEFENSE

Office of the Secretary of Defense

Defense Threat Reduction Agency (DTRA); Membership of the DTRA Performance Review Board (PRB)

AGENCY: Department of Defense, Defense Threat Reduction Agency.

ACTION: Notice of PRB membership.

SUMMARY: This notice announces the appointment of DTRA's PRB membership. The publication of the PRB membership is required by 5 U.S.C. 4314(c)(4). The PRB shall provide fair and impartial review of Senior Executive Service performance appraisals and make recommendations regarding performance ratings and performance awards to the Acting Director, Defense Threat Reduction Agency.

EFFECTIVE DATE: The effective date of service for the appointees of the DTRA PRB is on or about October 1, 2004.

FOR FURTHER INFORMATION CONTACT: Tana Farrell, Operations Office, Business Directorate, (703) 767-5759, Defense Threat Reduction Agency, 8725 John J. Kingman Road, Stop 6201, Ft. Belvoir, VA 22060-6201.

SUPPLEMENTARY INFORMATION: In accordance with 5 U.S.C. 4314(c)(4), the officials appointed to serve as members of the DTRA PRB are set forth below:

PRB Chair: Mr. Myron K. Kunka.

Member: Dr. Arthur T. Hopkins.

Member: Mr. Michael K. Evenson.

The following DTRA officials will serve as alternate members of the DTRA PRB, as appropriate.

Mr. Douglas Bruder

Dr. Mark Byers

Ms. Shari Durand

Mr. Douglas Englund

Mr. Kevin Flanagan

Dr. Charles Gallaway

Dr. Joe Golden

Mr. Richard Gullickson

Dr. Don Linger

Ms. Joan Ma Pierre

Dated: September 28, 2004
L. M. Bynum,
Alternate OSO Federal Register Liaison Officer, Department of Defense.

[FR Doc. 04-22174 Filed 10-1-04; 8:45 am]

BILLING CODE 5001-06-M